DEPARTMENT OF LABOR

Employment and Training Administration

[TA-W-60,887]

Clayton Marcus Co., a Division of Rowe Fine Furniture, Inc. (“Rowe”), Plant 1 Bethlehem, Hickory, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 21, 2007, applicable to workers of Clayton Marcus Co., Plant 1 Bethlehem, Hickory, North Carolina. The notice was published in the Federal Register on April 6, 2007 (72 FR 17184).

At the request of a company official, the Department reviewed the certification for workers of the subject firm. The workers are engaged in employment related to the production of upholstered furniture.

New information shows that in October 2007, Rowe Fine Furniture, Inc. (“Rowe”) purchased Clayton Marcus Co., Plant 1 Bethlehem and that some of the workers' wages at the subject firm are being reported under the Unemployment Insurance (UI) tax accounts for Rowe Fine Furniture, Inc. (“Rowe”).

Accordingly, the Department is amending this certification to properly reflect this matter.

The intent of the Department's certification is to include all workers of Clayton Marcus Co., Plant 1 Bethlehem, a division of Rowe Fine Furniture, Inc. (“Rowe”) who were adversely affected by increased imports of upholstered furniture.

The amended notice applicable to TA-W-60,887 is hereby issued as follows:

“All workers of Clayton Marcus Co., a division of Rowe Fine Furniture, Inc. (“Rowe”), Plant 1 Bethlehem, Hickory, North Carolina, who became totally or partially separated from employment on or after April 22, 2006, through March 21, 2009, are eligible to apply for adjustment assistance under Section 223 of the Trade Act of 1974, and are also eligible to apply for alternative trade adjustment assistance under Section 246 of the Trade Act of 1974.”

Signed at Washington, DC, this 5th day of August 2008.
Richard Church,
Certifying Officer, Division of Trade Adjustment Assistance.

[FR Doc. E8-18581 Filed 8-11-08; 8:45 am]

BILLING CODE 4510-FN-P